DEPARTMENT OF HOMELAND SECURITY

Coast Guard

[Docket No. USCG-2019-0751]

Commercial Fishing Safety Advisory Committee

AGENCY: U.S. Coast Guard, Department of Homeland Security.

ACTION: Notice of Federal advisory committee teleconference meeting.

SUMMARY: The Commercial Fishing Safety Advisory Committee (CFSAC) will meet via teleconference to discuss CFSAC task statement #01-19. The U.S. Coast Guard will consider CFSAC recommendations as part of the process of developing voluntary guidelines for fishing vessel construction, maintenance, and repair. The teleconference will be open to the public.

DATES:

Meeting. The full Committee is scheduled to meet by teleconference on Wednesday, October 30, 2019, from 1 p.m. to 3:00 p.m. Eastern Daylight Time. Please note that this teleconference may adjourn early if the Committee has completed its business.

Comments and supporting documents: To ensure your comments are reviewed by Committee members before the teleconference, submit your written comments no later than October 23, 2019.

ADDRESSES: To join the teleconference or to request special accommodations, contact the individual listed in the FOR FURTHER INFORMATION CONTACT section no later than 1 p.m. on October 24, 2019. The number of teleconference lines is limited and will be available on a first-come, first-served basis.

Instructions: You are free to submit comments at any time, including orally at the teleconference, but if you want Committee members to review your comments before the teleconference, please submit your comments no later than October 23, 2019. We are particularly interested in comments on the issue in the “Agenda” section below. You must include the words “Department of Homeland Security” and the docket number [USCG-2019-0751]. Comments received will be posted without alteration at http://www.regulations.gov, including any personal information provided. For more about privacy and the docket, review Privacy and Security Notice for the Federal Docket Management at https://www.regulations.gov/privacyNotice. Written comments may also be submitted using the Federal e-Rulemaking Portal at http://www.regulations.gov. If you encounter technical difficulties with comment submission, contact the individual listed in the FOR FURTHER INFORMATION CONTACT section of this notice.

Docket Search: For access to the docket or to read documents or comments related to this notice, go to http://www.regulations.gov, insert “USCG-2019-0751” in the Search box, press Enter, and then click on the item you wish to view.

FOR FURTHER INFORMATION CONTACT: Mr. Joseph D. Myers, Alternate Designated Federal Officer of the Commercial Fishing Safety Advisory Committee, (202) 372-1249, or email CGFishsafe@uscg.mil or Mr. Jonathan Wendland, Alternate Designated Federal Officer of the Commercial Fishing Safety Advisory Committee, telephone (202) 372-1245, or email CGFishsafe@uscg.mil.

SUPPLEMENTARY INFORMATION: Notice of this meeting is in compliance with the Federal Advisory Committee Act, Title 5 U.S.C., Appendix.

The Commercial Fishing Safety Advisory Committee is authorized by Title 46 United States Code Section 4508. The Committee's purpose is to provide advice and recommendations to the United States Coast Guard and the Department of Homeland Security on matters relating to the safe operation of commercial fishing industry vessels.

Agenda

The agenda for the October 30, 2019 meeting, is as follows:

(1) Introduction.

(2) Roll call of Committee members and determination of a quorum.

(3) Comments by Designated Federal Officer (DFO).

(4) Comments by ADFO Regarding Commercial Fishing Safety Advisory.

(5) Committee and the National Commercial Fishing Safety Advisory Committee.

(6) Comments by Federal Advisory Committee Act Representative.

(7) Old Business from the 39th Commercial Fishing Safety Advisory Committee meeting.

(8) New Business.

(9) Comments by Committee Chairman.

(10) Discussion Task # 01-19 Develop a voluntary best practice guide to be used by the Commercial Fishing Industry during fishing vessel construction, maintenance, and repair.

(11) Public Comment period.

(12) Comments by Designated Federal Officer (DFO).

(13) Comments by Committee Chairman.

(14) Adjournment of meeting.

A copy of all meeting documentation is available at https://www.dco.uscg.mil/fishsafe. Alternatively, you may contact Mr. Joseph D. Myers or Mr. Jonathan Wendland as noted in the FOR FURTHER INFORMATION CONTACT section above.

Public comments will be limited to three minutes per person. Please note that the public comment period may end before the period allotted, following the last call for comments. Please contact the individual listed in the FOR FURTHER INFORMATION CONTACT section above to register as a speaker.

A copy of available meeting documentation will be posted to the docket, as noted above, and at https://www.dco.uscg.mil/Our-Organization/Assistant-Commandant-for-Prevention-Policy-CG-5P/Inspections-Compliance-CG-5PC-/Commercial-Vessel-Compliance/Fishing-Vessel-Safety-Division/cfsac/ by October 29, 2019. Post-meeting documentation will be posted to the website, noted above, within 30 days after the meeting, or as soon as possible.

Dated: September 18, 2019.
David C. Barata,
Captain, U.S. Coast Guard, Director of Inspections and Compliance.

[FR Doc. 2019-20613 Filed 9-23-19; 8:45 am]

BILLING CODE 9110-04-P